DEPARTMENT OF ENERGY

Federal Energy Regulatory Commission

[Docket No. EL09-56-000]

Notice of Complaint

June 3, 2009.

People of the State of California, ex rel., Edmund G. Brown, Jr. Attorney General of the State of California, Complainant, v. Powerex Corp. (f/k/a British Columbia Power Exchange Corp.), Sempra Energy Trading, LLC (f/k/a Sempra Energy Trading Corp.), Allegheny Energy Supply Company, LLC, TransAlta Energy Marketing (US), Inc., Public Service Company of New Mexico, MIECO, Inc., Shell Energy North America (U.S.), L.P. (successor by merger to Coral Power LLC), Merrill Lynch Capital Services, TransCanada Energy Ltd. (f/k/a TransCanada Power Corp.), Commerce Energy Corp. (f/k/a Commonwealth Energy Corp.), Nevada Power Company, Tucson Electric Power Company, American Electric Power Service Corp., Comision Federal de Electricidad, Sierra Pacific Power Company, Sierra Pacific Industries, Avista Corp. (f/k/a Washington Water Power Power Company), Avista Energy, Inc., Sempra Energy Solutions LLC, Respondents.

Notice of Complaint

Take notice that on May 22, 2009, pursuant to section 206 of the Rules and Practice and Procedure, 18 CFR 385.206 and sections 205, 206, 306, and 309 of the Federal Power Act, 16 U.S.C. 824(d), 824(e), 825(e), and 825(h), the People of the California, ex rel. Edmond G. Brown Jr., Attorney General of the State of California (Complainant) filed a formal complaint against the Respondents alleging that the named Respondents, public utility sellers of short-term bilateral energy to the California Energy Resources Scheduling Division of the California Department of Water Resources (CERS) during the period January 18, 2001 to June 20, 2001, owe refunds to California ratepayers on sales to CERS because those sales were made at unjust and unreasonable prices.

The Attorney General certifies that copies of the complaint were served upon the named Respondents or their authorized representatives via individual e-mails, by e-mails to the Docket EL00-95-000 and Docket EL02-71-000 Listserv, by e-mail to the E-mail service list in Docket EL01-10, and by express delivery service.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 20, 2009.

Kimberly D. Bose,
Secretary.

[FR Doc. E9-13537 Filed 6-9-09; 8:45 am]

BILLING CODE 6717-01-P